DEPARTMENT OF HEALTH AND HUMAN SERVICES

Centers for Disease Control and Prevention

National Center for Environmental Health/Agency for Toxic Substances and Disease Registry

The Program Peer Review Subcommittee of the Board of Scientific Counselors (BSC), Centers for Disease Control and Prevention (CDC), National Center for Environmental Health/Agency for Toxic Substances and Disease Registry (NCEH/ATSDR): Teleconference.

In accordance with section 10(a)(2) of the Federal Advisory Committee Act (Pub. L. 92-463), CDC, NCEH/ATSDR announces the following subcommittee meeting:

Time and Date: 8:30 a.m.-10:30 p.m. Eastern Standard Time, December 19, 2006.

Place: The teleconference will originate at NCEH/ATSDR in Atlanta, Georgia. To participate, dial 877/315-6535 and enter conference code 383520.

Purpose: Under the charge of the BSC, NCEH/ATSDR, the PPRS will provide the BSC, NCEH/ATSDR with advice and recommendations on NCEH/ATSDR program peer review. They will serve the function of organizing, facilitating, and providing a long-term perspective to the conduct of NCEH/ATSDR program peer review.

Matters to be Discussed: An overview of PPRS activities; a review of the November meeting; an update on the Site Specific Activities Peer Review; re-visit approval of the Peer Reviewer Conflict-of-interest Form; and a discussion on Preparedness and Emergency Response Peer Review scheduled for February 2007: Breadth and approach of the review, areas of expertise required for the review, nominations for a PPRS panel member, a chairperson, peer reviewers, partners, and customers. Agenda items are subject to change as priorities dictate.

Supplementary Information: Public comment period is scheduled for 9:35-9:45 a.m. Due to programmatic matters, this Federal Register Notice is being published on less than 15 calendar days notice to the public (41 CFR 102-3.150(b)).

For Further Information Contact: Sandra Malcom, Committee Management Specialist, Office of Science, NCEH/ATSDR, M/S E-28, 1600 Clifton Road, NE., Atlanta, Georgia 30333, telephone 404/498-0622.

The Director, Management Analysis and Services Office, has been delegated the authority to sign Federal Register notices pertaining to announcements of meetings and other committee management activities for both CDC and NCEH/ATSDR.

Dated: December 1, 2006.
Alvin Hall,
Director, Management Analysis and Services Office, Centers for Disease Control and Prevention.

[FR Doc. E6-20755 Filed 12-6-06; 8:45 am]

BILLING CODE 4163-18-P